DEPARTMENT OF DEFENSE

Department of the Air Force

Notice of Federal Advisory Committee meeting

AGENCY: Department of the Air Force, Air University Board of Visitors.

ACTION: Notice of Federal Advisory Committee meeting.

SUMMARY: The Department of Defense (DoD) is publishing this notice to announce the following Federal Advisory Committee meeting of the Board of Visitors (BoV) of Air University.

DATES: Open to the public virtually Monday, November 16, 2020, from 8:00 a.m. to 5:00 p.m. and Tuesday, November 17, 2020, from 8:00 a.m. to 3:00 p.m. (Central Time).

ADDRESSES: The virtual meeting can be accessed at the following link: https://www.airuniversity.af.edu/Academic-Affairs/Board-of-Visitors/.

FOR FURTHER INFORMATION CONTACT: Dr. Shawn P. O'Mailia, Designated Federal Officer (DFO), Air University Headquarters, 55 LeMay Plaza South, Maxwell Air Force Base, Alabama 36112-6335, telephone (334) 953-4547.

SUPPLEMENTARY INFORMATION: This meeting is held under the provisions of the Federal Advisory Committee Act (FACA) of 1972 (5 U.S.C., Appendix, as amended), the Government in the Sunshine Act of 1976 (5 U.S.C. 552b, as amended), and 41 CFR 102-3.140 and 102-3.150.

Purpose of the Meeting: The purpose of this meeting is to provide independent advice and recommendations on matters pertaining to the educational, doctrinal, and research policies and activities of Air University. Specific to this agenda includes topics relating to AU's COVID-19 response, SecDef's Great Power Competition tasking, Air Force Institute of Technology Subcommittee update, Community College of the Air Force Subcommittee update, Accreditation Quality Enhancement Plan presentation, AU Student Information System update, and AU financial update.

Meeting Accessibility: Open to the public with the exception of the Executive Session with the Air University Commander and President. Any member of the public wishing to attend this meeting should contact the Designated Federal Officer listed below at least ten calendar days prior to the meeting for information on base entry procedures.

Written Statements: Any member of the public wishing to provide input to the Air University Board of Visitors, should submit a written statement in accordance with 41 CFR 102-3.105(j) and § 102-3.140 and § 10(a)(3) of the FACA. The public or interested organizations may submit written comments or statements to the BoV about its mission and/or the topics to be addressed in the open sessions of this public meeting. Written comments or statements should be submitted to the DFO, Dr. Shawn P. O'Mailia, via electronic mail, the preferred mode of submission, at the email address listed in the FOR FURTHER INFORMATION CONTACT section. Written comments or statements must be received by the DFO at least ten (10) calendar days prior to the meeting that is the subject of this notice. Written comments or statements received after this date may not be provided to or considered by the Air University Board of Visitors until its next meeting. The DFO will review all timely submissions with the Air University Board of Visitors' Board Chairperson and ensure they are provided to members of the Board before the meeting that is the subject of this notice.

Adriane Paris,
Acting Air Force Federal Register Liaison Officer.

[FR Doc. 2020-23453 Filed 10-22-20; 8:45 am]

BILLING CODE 5001-10-P